SECURITIES AND EXCHANGE COMMISSION

Sunshine Act Meeting

Notice is hereby given that, pursuant to the provisions of the Government in Sunshine Act, Public Law 99-409, the Securities and Exchange Commission will hold an Open Meeting on Wednesday, July 13, 2016, at 10 a.m. in the Auditorium, Room L-002.

The discussion agenda for the Open Meeting will be:

• The Commission will consider whether to adopt certain amendments and issue guidance relating to Regulation SBSR under the Securities Exchange Act of 1934.

• The Commission will consider whether to propose amendments to rules under the Securities Exchange Act of 1934 regarding disclosure of order handling information.

• The Commission will consider whether to propose amendments to address redundant, duplicative, overlapping, outdated, or superseded disclosure requirements.

The summary agenda for the Open Meeting will be:

• The Commission will vote on amendments to its Rules of Practice regarding administrative proceedings.

Commissioner Piwowar, as duty officer, voted to consider the items listed for the Open Meeting in open session, and determined that Commission business required consideration earlier than one week from today. No earlier notice of this Meeting was practicable.

At times, changes in Commission priorities require alterations in the schedules of meeting items. For further information and to ascertain what, if any, matters have been added, deleted, or postponed, please contact: Brent J. Fields in the Office of the Secretary at (202) 551-5400.

Dated: July 7, 2016.
Brent J. Fields,
Secretary.

[FR Doc. 2016-16542 Filed 7-8-16; 11:15 am]

BILLING CODE 8011-01-P